DEPARTMENT OF THE INTERIOR

National Park Service

[NPS-WASO-NAGPRA-NPS0027203: PPWOCRADN0-PCU00RP14.R50000]

Notice of Inventory Completion: Morris Museum, Morristown, NJ

AGENCY: National Park Service, Interior.

ACTION: Notice.

SUMMARY: The Morris Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Morris Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Morris Museum at the address in this notice by March 11, 2019.

ADDRESSES: Maria Ribaudo, Collections Manager, Morris Museum, 6 Normandy Heights Road, Morristown, NJ 07960, telephone (973) 971-3735, email mribaudo@morrismuseum.org.

SUPPLEMENTARY INFORMATION: Notice is here given in accordance with the Native American Graves Protection and Repatriation Act (NAGPRA), 25 U.S.C. 3003, of the completion of an inventory of human remains under the control of the Morris Museum, Morristown, NJ. The human remains were removed from Minisink Island, Sussex County, NJ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Morris Museum professional staff in 1995. The Morris Museum invited the Delaware Nation, Oklahoma, and Stockbridge Munsee Community, Wisconsin, to consult, but did not receive any requests to review the human remains.

History and Description of the Remains

On April 4, 1942, human remains representing, at minimum, one individual, were removed from Minisink Island, Sussex County, NJ, by Phillip Launer and J.P. Clark. The human remains, consisting of bone fragments ranging in size from half an inch to four inches, were donated to the Morris Museum by J.P. Clark. Geographic affiliation was attributed to the Munsee-Lenape-Delaware of New Jersey and Pennsylvania. There are no additional records or information known about the human remains. No known individuals were identified. No associated funerary objects are present.

Determinations Made by the Morris Museum

Officials of the Morris Museum have determined that:

• Pursuant to 25 U.S.C. 3001(9), the human remains described in this notice represent the physical remains of one individual of Native American ancestry.

• Pursuant to 25 U.S.C. 3001(2), there is a relationship of shared group identity that can be reasonably traced between the Native American human remains and the Delaware Nation, Oklahoma, and Stockbridge Munsee Community, Wisconsin.

Additional Requestors and Disposition

Lineal descendants or representatives of any Indian Tribe or Native Hawaiian organization not identified in this notice that wish to request transfer of control of these human remains should submit a written request with information in support of the request to Maria Ribaudo, Collections Manager, Morris Museum, 6 Normandy Heights Road, Morristown, NJ 07960, telephone (973) 971-3735, email mribaudo@morrismuseum.org, by March 11, 2019. After that date, if no additional requestors have come forward, transfer of control of the human remains to the Delaware Nation, Oklahoma, and Stockbridge Munsee Community, Wisconsin, may proceed.

The Morris Museum is responsible for notifying the Delaware Nation, Oklahoma, and Stockbridge Munsee Community, Wisconsin, that this notice has been published.

Dated: December 18, 2018.
Melanie O'Brien,
Manager, National NAGPRA Program.

[FR Doc. 2019-01611 Filed 2-7-19; 8:45 am]

BILLING CODE 4312-52-P